COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List products and a service to be furnished by nonprofit agencies employing persons who are blind or have other severe disabilities.

EFFECTIVE DATE: October 31, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On June 14, and August 6, 2004, the Committee for Purchase From People Who Are Blind or Severely Disabled published notice (69 FR 32975, and 47863) of proposed additions to the Procurement List.

After consideration of the material presented to it concerning capability of qualified nonprofit agencies to provide the products and services and impact of the additions on the current or most recent contractors, the Committee has determined that the products and service listed below are suitable for procurement by the Federal Government under 41 U.S.C. 46-48c and 41 CFR 51-2.4.

The following comments pertain to Tabs, Index.

Comments were received from the current contractor, from one of its subcontractors which is the actual manufacturer of the index tabs, from a trade association representing these companies, and from a Member of Congress. All of these comments addressed the impact of this Procurement List addition on the subcontractor.

Sales of these index tabs to the current contractor account for nearly the entire production of the index tabs by the subcontractor. If these sales are lost, the subcontractor claims it would be forced to cease production of the index tabs and terminate the employees producing them. The subcontractor would also lose a portion of its total sales. The commenters noted that other producers of index tabs are large businesses that have already impacted the subcontractor's sales and its ability to succeed in the office products market as a domestic producer.

The contractor to which the index tabs manufacturer sells the tabs is not limited to re-selling them to the Federal Government. Accordingly, the Committee is not convinced that this addition to the Procurement List will destroy the manufacturer's market and force a cessation of production of the index tabs. However, even if a cessation were to occur, the percentage of sales the manufacturer would lose does not rise to the level which the Committee normally considers to be a severe adverse impact on a contractor. In addition, addition of the index tabs to the Procurement List will create jobs for workers with severe disabilities, a group which has an unemployment rate far above that of the workers who may be displaced. Therefore, the Committee believes the addition of these index tabs to the Procurement List is justified, as it will not have a severe adverse impact on either the current contractor or the subcontractor, and it will create jobs for people with severe disabilities who would be less likely to find other employment than the subcontractor's workers.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: Tabs, Index

7530-01-368-3489 (Assorted Colors—Tabs 1 through 10)

7530-01-368-3490 (Assorted Colors—Tabs January through December)

7530-01-368-3491 (Clear—Tabs January through December)

7530-01-368-3492 (Assorted Colors—Tabs A through Z)

7530-01-368-3493 (Assorted Colors—Index Sheets 1 through 31)

NPA: South Texas Lighthouse for the Blind, Corpus Christi, Texas.

Contract Activity: Office Supplies & Paper Products Acquisition Center, New York, New York.

Services

Service Type/Location: Classified Technical Order Distribution,

Tinker Air Force Base, Building 3, Door 57, Tinker AFB, Oklahoma.

NPA: The Oklahoma League for the Blind, Oklahoma City, Oklahoma.

Contract Activity: Directorate of Contracting (OC-ALC/PKOSF), Tinker AFB, Oklahoma.

This action does not affect current contracts awarded prior to the effective date of this addition or options that may be exercised under those contracts.

Sheryl D. Kennerly,
Director, Information Management.

[FR Doc. 04-22091 Filed 9-30-04; 8:45 am]

BILLING CODE 6353-01-P